DEPARTMENT OF ENERGY

Environmental Management Site-Specific Advisory Board Chairs

AGENCY: Office of Environmental Management, Department of Energy.

ACTION: Notice of open meeting.

SUMMARY: This notice announces an in-person/virtual hybrid meeting of the Environmental Management Site-Specific Advisory Board (EM SSAB) Chairs. The Federal Advisory Committee Act requires that public notice of this meeting be announced in the Federal Register.

DATES: Tuesday, March 21, 2023; 9 a.m.-5 p.m. EDT

Wednesday, March 22, 2023; 1:30 p.m.-5 p.m. EDT

ADDRESSES: This hybrid meeting will be open to the public virtually (observation only). To obtain a copy of the virtual link, please contact Kelly Snyder by email, kelly.snyder@em.doe.gov, no later than 4:00 p.m. EDT on Tuesday, March 14, 2023.

For EM SSAB Chairs, Vice-Chairs and staff, the meeting will be held, strictly following COVID-19 precautionary measures, at: U.S. Department of Energy, 1000 Independence Avenue SW, Room 6E-069, Washington, DC 20585.

Attendees should check the EM SSAB website (https://www.energy.gov/em/em-site-specific-advisory-board) for any meeting format changes due to COVID-19 protocols.

FOR FURTHER INFORMATION CONTACT: Kelly Snyder, EM SSAB Designated Federal Officer, Email: kelly.snyder@em.doe.gov or telephone: (702) 918-6715.

SUPPLEMENTARY INFORMATION:

Purpose of the Board: The purpose of the Board is to make recommendations to DOE-EM and site management in the areas of environmental restoration, waste management, and related activities.

Tentative Agenda Topics

Tuesday, March 21, 2023

• EM Update

• Chairs Round Robin

• Public Comment

• Budget Update and Simulation Exercise

• Minority Serving Institutions Partnership Program

• Community Capacity Building

• Membership On-Boarding

• Board Business/Open Discussion

Wednesday, March 22, 2023

• EM's International Program Overview

• EM's National Laboratory Network

• Technology Development Overview

• Public Comment

• Board Business/Open Discussion

Public Participation: As a COVID-19 precaution, the meeting will be open to the public virtually only. To obtain a copy of the virtual link, send an email to Kelly Snyder at kelly.snyder@em.doe.gov no later than 4:00 p.m. ET on Tuesday, March 14, 2023. The EM SSAB welcomes the attendance of the public at its advisory committee meetings and will make every effort to accommodate persons with physical disabilities or special needs. If you require special accommodations due to a disability, please note this when registering. Public comments will be accepted via email for virtual participants prior to and after the meeting. Comments received in writing no later than 4:00 p.m. EDT on Tuesday, March 14, 2023, will be read aloud during the meeting. Comments will also be accepted after the meeting by no later than 4:00 p.m. EDT on Tuesday, March 28, 2023, to be included in the official meeting record. Please send comments to Kelly Snyder at Kelly.snyder@em.doe.gov. Please put “Public Comment” in the subject line. The Designated Federal Officer is empowered to conduct the meeting in a fashion that will facilitate the orderly conduct of business. Individuals wishing to submit public comments should follow as directed above.

Minutes: Minutes will also be available at the following website: https://energy.gov/em/listings/chairs-meetings.

Signed in Washington, DC, on February 22, 2023.
LaTanya Butler,
Deputy Committee Management Officer.

[FR Doc. 2023-03968 Filed 2-24-23; 8:45 am]

BILLING CODE 6450-01-P